DEPARTMENT OF EDUCATION

Extension of the Application Deadline Date; Applications for New Awards; Expanding Opportunity Through Quality Charter Schools Program (CSP)—Grants to State Entities (CSP State Entities)

AGENCY: Office of Elementary and Secondary Education, Department of Education.

ACTION: Notice.

SUMMARY: On January 27, 2020, we published in the Federal Register a notice inviting applications (NIA) for the fiscal year (FY) 2020 CSP State Entities competition, Catalog of Federal Domestic Assistance (CFDA) number 84.282A. The NIA established a deadline date of April 13, 2020 for the transmittal of applications. This notice extends the deadline date for transmittal of applications until May 15, 2020, and extends the deadline for intergovernmental review until July 14, 2020.

DATES:

Deadline for Transmittal of Applications: May 15, 2020.

Deadline for Intergovernmental Review: July 14, 2020.

FOR FURTHER INFORMATION CONTACT: Ashley Gardner, U.S. Department of Education, 400 Maryland Avenue SW, room 3E113, Washington, DC 20202-5970. Telephone: (202) 453-6787. Email: charterschools@ed.gov.

If you use a telecommunications device for the deaf (TDD) or a text telephone (TTY), call the Federal Relay Service (FRS), toll free, at 1-800-877-8339.

SUPPLEMENTARY INFORMATION: On January 27, 2020, we published the NIA for the FY 2020 CSP State Entities competition in the Federal Register (85 FR 4642). We are extending the deadline for transmittal of applications to May 15, 2020 in order to allow eligible entities more time to prepare and submit their applications.

Eligibility: The extension of the deadline for transmittal of applications in this notice applies to all eligible entities under the CSP State Entities program. In accordance with the NIA, an eligible entity for the CSP State Entities program is a State entity in a State with a specific State statute authorizing the granting of charters to schools.

Note: All information in the NIA remains the same, except for the deadline for transmittal of applications and deadline for intergovernmental review.

Program Authority: Title IV, part C of the Elementary and Secondary Education Act of 1965, as amended by the Every Student Succeeds Act (ESEA) (20 U.S.C. 7221-7221j).

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at: www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced document search, you can limit your search to documents published by the Department.

Frank T. Brogan,
Assistant Secretary for Elementary and Secondary Education.

[FR Doc. 2020-07460 Filed 4-8-20; 8:45 am]

BILLING CODE 4000-01-P